DEPARTMENT OF COMMERCE

International Trade Administration

[A-588-837]

Large Newspaper Printing Presses and Components Thereof, Whether Assembled or Unassembled, From Japan: Notice of Rescission of Antidumping Duty Administrative Review

AGENCY: Import Administration, International Trade Administration, Department of Commerce.

ACTION: Notice of Rescission of Antidumping Duty Administrative Review.

SUMMARY: In response to a timely request from the petitioner, Goss Graphic Systems, Inc., on October 26, 2001, the Department of Commerce published a notice of initiation of an administrative review of the antidumping duty order on large newspaper printing presses and components thereof, whether assembled or unassembled, from Japan with respect to Mitsubishi Heavy Industries, Ltd. and Tokyo Kikai Seisakusho, Ltd., covering the period September 1, 2000, through August 31, 2001. On December 21, 2001, the petitioner timely notified the Department of its withdrawal from this and all other segments of the proceeding concerning large newspaper printing presses and components thereof, whether assembled or unassembled, from Japan.

On January 16, 2001, the Department published its partial revocation of the order on large newspaper printing presses and components thereof, whether assembled or unassembled, from Japan with respect to Tokyo Kikai Seisakusho, Ltd., effective September 1, 2000. Accordingly, the Department is now rescinding this review with respect to this company.

In accordance with 19 CFR 351.213(d)(1), the Department of Commerce is also rescinding this review with respect to Mitsubishi Heavy Industries because the petitioner has withdrawn its interest (and thus its request) in this review and no other interested parties have requested a review.

EFFECTIVE DATE: February 15, 2002.

FOR FURTHER INFORMATION CONTACT: David J. Goldberger or Katherine Johnson, Import Administration, International Trade Administration, U.S. Department of Commerce, 14th Street and Constitution Avenue, N.W., Washington, D.C. 20230; telephone: (202) 482-4136 or (202) 482-4929, respectively.

SUPPLEMENTARY INFORMATION:

Applicable Statute

Unless otherwise indicated, all citations to the Tariff Act of 1930, as amended (“the Act”), are references to the provisions effective January 1, 1995, the effective date of the amendments made to the Act by the Uruguay Round Agreements Act. In addition, unless otherwise indicated, all citations to the Department of Commerce's regulations are to 19 CFR Part 351 (2001).

Background

On September 4, 2001, the Department published in the Federal Register (66 FR 46257) a notice of “Opportunity To Request Administrative Review” of the antidumping duty order on large newspaper printing presses and components thereof, whether assembled or unassembled (“LNPPs”), from Japan for the period from September 1, 2000, through August 31, 2001. On September 28, 2001, the petitioner requested an administrative review of the above-referenced antidumping duty order for the period from September 1, 2000, through August 31, 2001, for Mitsubishi Heavy Industries, Ltd. (“MHI”) and Tokyo Kikai Seisakusho, Ltd. (“TKS”). On October 26, 2001, the Department published a notice of initiation of an administrative review of the antidumping duty order on LNPPs from Japan with respect to these companies. See Initiation of Antidumping and Countervailing Duty Administrative Reviews and Requests for Revocation in Part, 66 FR 54195 (October 26, 2001).

Recission of Review

On December 21, 2001, the petitioner timely withdrew its participation from this review with respect to MHI and TKS. We interpret the petitioner's withdrawal of interest in this review to constitute withdrawal of its request for this review. Section 19 CFR 351.213(d)(1) of the Department's regulations stipulates that the Secretary may permit a party that requests a review to withdraw the request no later than 90 days after the date of publication of the notice of initiation of the requested review. In this case, the petitioner has withdrawn its request for review within the 90-day period. No other interested party requested a review. Furthermore, on January 16, 2001, the Department published its partial revocation of the order on LNPPs from Japan with respect to TKS, effective September 1, 2000, pursuant to the completion of the final results of the third administrative review of the order for TKS. See Large Newspaper Printing Presses and Components Thereof, Whether Assembled or Unassembled, from Japan: Final Results of Antidumping Administrative Review and Revocation in Part, 67 FR 2190 (January 16, 2002). Therefore, we are rescinding this review of the antidumping duty order on LNPPs from Japan.

This notice is published in accordance with section 751 of the Act and section 19 CFR 351.213(d)(4).

February 8, 2002.
Richard W. Moreland,
Deputy Assistant Secretary for Import Administration.

[FR Doc. 02-3806 Filed 2-14-02; 8:45 am]

BILLING CODE 3510-DS-S